DEPARTMENT OF COMMERCE

Bureau of Industry and Security

Proposed Information Collection; Comment Request; License Transfer and Duplicate License Services

AGENCY: Bureau of Industry and Security (BIS), Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before November 13, 2018.

ADDRESSES: Direct all written comments to Jennifer Jessup, Departmental Paperwork Clearance Officer, Department of Commerce, 1401 Constitution Avenue NW, Room 6616, Washington, DC 20230 (or via the internet at docpra@doc.gov.)

FOR FURTHER INFORMATION CONTACT: Requests for additional information or copies of the information collection instrument and instructions should be directed to Mark Crace, BIS ICB Liaison, (202) 482-8093 or at mark.crace@bis.doc.gov.

SUPPLEMENTARY INFORMATION:

I. Abstract

The collection is necessary under Section 750.9 of the Export Administration Regulation (EAR) which outlines the process for obtaining a duplicate license when a license is lost or destroyed. Section 750.10 of the EAR explains the procedure for transfer of ownership of validated export licenses. Both activities are services provided after the license approval process. The supporting statement will use the terms “transfer” and “duplicate” to distinguish the unique activities of each. When no distinction is made, the response supports both activities.

II. Method of Collection

Transfer: When a request to transfer a license or licenses is received, BIS reviews the proposed transfer, and if approved, submits a validated letter authorizing the transfer of ownership.

Duplicate: When a request for a duplicate license is received, the original license is found in BIS's Export Control Automated Support System (ECASS) and the duplicate is then issued by ECASS. The request for a duplicate license is a written submission; the output is electronic.

III. Data

OMB Control Number: 0694-0126.

Form Number(s): N/A.

Type of Review: Regular submission.

Affected Public: Private Sector.

Estimated Number of Respondents: 110.

Estimated Time per Response: 1 to 30 minutes.

Estimated Total Annual Burden Hours: 31.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Export Administration Act of 1979, Section 15(b) of the EAR, Section 750.9 and 750.10 of the EAR.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer.

[FR Doc. 2018-19956 Filed 9-13-18; 8:45 am]

BILLING CODE 3510-07-P